DEPARTMENT OF TRANSPORTATION

Federal Aviation Administration

14 CFR Part 71

[Docket No. FAA-2019-0124; Airspace Docket No. 18-ASO-18]

Proposed Establishment and Amendment of Area Navigation (RNAV) Routes; Southeastern United States

AGENCY: Federal Aviation Administration (FAA), DOT.

ACTION: Notice of proposed rulemaking (NPRM).

SUMMARY: This action proposes to establish 2 new low altitude RNAV routes T-239, and T-258, and modify 3 existing RNAV routes T-290, T-292, and T-294 in the southeastern United States. The proposal would expand the availability of RNAV routing in support of transitioning the National Airspace System (NAS) from ground-based to satellite-based navigation.

DATES: Comments must be received on or before April 29, 2019.

ADDRESSES: Send comments on this proposal to the U.S. Department of Transportation, Docket Operations, 1200 New Jersey Avenue SE, West Building Ground Floor, Room W12-140, Washington, DC 20590; telephone: 1 (800) 647-5527 or (202) 366-9826. You must identify FAA Docket No. FAA-2019-0124; Airspace Docket No. 18-ASO-18 at the beginning of your comments. You may also submit comments through the internet at http://www.regulations.gov.

FAA Order 7400.11C, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11C at NARA, call (202) 741-6030, or go to http://www.archives.gov/federal-register/cfr/ibr-locations.html.

FAA Order 7400.11, Airspace Designations and Reporting Points, is published yearly and effective on September 15.

FOR FURTHER INFORMATION CONTACT: Paul Gallant, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would expand the availability of RNAV in the eastern United States to improve the efficiency of the NAS by lessening the dependency on ground-based navigation.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2019-0124; Airspace Docket No. 18-ASO-18 and be submitted in triplicate to the Docket Management Facility (see ADDRESSES section for address and phone number). You may also submit comments through the internet at http://www.regulations.gov.

Commenters wishing the FAA to acknowledge receipt of their comments on this action must submit with those comments a self-addressed, stamped postcard on which the following statement is made: “Comments to FAA Docket No. FAA-2019-0124; Airspace Docket No. 18-ASO-18.” The postcard will be date/time stamped and returned to the commenter.

All communications received on or before the specified comment closing date will be considered before taking action on the proposed rule. The proposal contained in this action may be changed in light of comments received. A report summarizing each substantive public contact with FAA personnel concerned with this rulemaking will be filed in the docket.

Availability of NPRM's

An electronic copy of this document may be downloaded through the internet at http://www.regulations.gov. Recently published rulemaking documents can also be accessed through the FAA's web page at http://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Eastern Service Center, Federal Aviation Administration, Room 210, 1701 Columbia Ave., College Park, GA, 30337.

Availability and Summary of Documents for Incorporation by Reference

This document proposes to amend FAA Order 7400.11C, Airspace Designations and Reporting Points, dated August 13, 2018, and effective September 15, 2018. FAA Order 7400.11C is publicly available as listed in the ADDRESSES section of this proposed rule. FAA Order 7400.11C lists Class A, B, C, D, and E airspace areas, air traffic service routes, and reporting points.

The Proposal

The FAA is proposing an amendment to Title 14 Code of Federal Regulations (14 CFR) part 71 to establish 2 new low altitude RNAV routes: T-239 and T-258; and to amend 3 existing routes: T-290, T-292, and T-294. The FAA is proposing this action in preparation for the planned decommissioning of the Talladega, AL, VHF Omni-Directional Range/Distance Measuring Equipment (VOR/DME), the Crimson, AL, VHF Omni-Directional Range and Tactical Air Navigation System (VORTAC), the Kewanee, MS, VORTAC, and the Hamilton, AL, VORTAC.

T-239: T-239 is a proposed new route that would extend between the Pecan, GA, (PZD) VOR/DME (northwest of Albany, GA), northwestward through the State of Alabama to the GOINS, MS, waypoint (WP) (near the Holly Springs, MS, (HLI) VORTAC). T-239 would overlie VOR Federal airway V-159 between the Pecan, GA, VOR/DME and the GOINS, MS, WP.

T-258: T-258 is a proposed new route that would extend between the MINIM, AL, fix, (24 NM northeast of the Bigbee, MS, (IGB) VORTAC), eastward across Alabama, to the CANER, GA, fix (approximately 21 NM northeast of Columbus, GA). T-258 would overlie airway V-245 from the MINIM, AL, navigation fix eastward to the CRMSN, AL, WP; and it would overlie airway V-66 from the CRMSN, AL, WP eastward to the CANER, GA, Fix.

T-290: T-290 is an existing route that extends between the SCAIL, AL, WP, and the JACET, GA, WP. Under the proposed change, the western end of the route would begin at the HABJE, MS, Fix (located approximately 15 NM west of the Meridian, MS (MEI), VORTAC. The route would then proceed eastward to the Meridian, MS (MEI), VORTAC, through the KWANE, MS, WP, and the RABEC, AL, WP to the Montgomery, AL (MGM), VORTAC, and then northeastward to the SCAIL, AL, WP. From the SCAIL, AL, WP, T-290 would proceed to the JACET, GA, WP as currently charted. T-290 would overlie VOR Federal airway V-56 between the Meridian, MS (MEI), VORTAC and the Montgomery, AL (MGM), VORTAC.

T-292: T-292 is an existing route that extends between the RKMRT, GA, WP, and the JACET, GA, WP. As proposed, the western end of T-292 would begin at the Semmes, AL (SJI), VORTAC. From that point, it would proceed northward through the BURIN, AL; the HAZEY, AL; the YARBO, AL; the ANTUH, AL; and the JANES, AL, fixes to the KWANE, MS, WP. The route would then turn northeastward through the EUTAW, AL, and the MOVIL, AL, fixes; then through the Brookwood, AL (OKW), VORTAC; the VLKNN, AL, WP; the HOKES, AL, and the MAYES, AL, fixes; then to the RKMRT, GA, WP, from which point it would proceed as currently charted to the JACET, GA, WP. The amended route would overlie a portion of VOR Federal airway V-417 between the MAYES, AL, WP, and the Vulcan, AL (VUZ), VORTAC; and would overlie Federal airway V-209 between the Vulcan, AL, VORTAC and the Semmes, AL, VORTAC.

T-294: T-294 is an existing route that extends between the HEFIN, AL, fix and the GRANT, GA, fix. This proposal would extend the route from the HEFIN, AL, Fix, westward to the HABJE, MS, Fix (located 15 NM west of the Meridian, MS (MEI), VORTAC. The amended route would overlie VOR Federal airway V-18 between the HABJE, MS, fix and the HEFIN, AL, fix.

The existing latitude/longitude coordinates in the descriptions of T-290, T-292, and T-294 would be updated to the hundredths of a second place to provide greater accuracy.

Full route descriptions of the above routes are listed in “The Proposed Amendment″ section, below.

United States Area Navigation Routes are published in paragraph 6011 of FAA Order 7400.11C, dated August 13, 2018, and effective September 15, 2018, which is incorporated by reference in 14 CFR 71.1. The RNAV routes listed in this document would be subsequently published in the Order.

Regulatory Notices and Analyses

The FAA has determined that this proposed regulation only involves an established body of technical regulations for which frequent and routine amendments are necessary to keep them operationally current. It, therefore: (1) Is not a “significant regulatory action″ under Executive Order 12866; (2) is not a “significant rule″ under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures″ prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11C, Airspace Designations and Reporting Points, dated August 13, 2018, and effective September 15, 2018, is amended as follows:

Paragraph 6011 United States Area Navigation Routes

* * * * *

T-239 Pecan, GA (PZD) to GOINS, MS [New]
Pecan, GA (PZD) | VOR/DME | (Lat. 31°39′18.74″ N, long. 084°17′35.16″ W)
SHANY, GA | Fix | (Lat. 31°45′05.09″ N, long. 084°33′49.37″ W)
AYUVO, GA | Fix | (Lat. 31°45′50.73″ N, long. 084°35′58.47″ W)
SAWES, GA | Fix | (Lat. 31°50′59.68″ N, long. 084°50′36.02″ W)
AXOSE, GA | Fix | (Lat. 31°53′13.32″ N, long. 084°56′57.43″ W)
Eufaula, AL (EUF) | VORTAC | (Lat. 31°57′00.90″ N, long. 085°07′49.73″ W)
MILER, AL | Fix | (Lat. 32°12′57.74″ N, long. 085°23′50.35″ W)
Tuskegee, AL (TGE) | VOR/DME | (Lat. 32°29′05.53″ N, long. 085°40′09.55″ W)
KENTT, AL | Fix | (Lat. 32°36′42.77″ N, long. 085°47′57.33″ W)
SEMAN, AL | Fix | (Lat. 32°46′20.97″ N, long. 085°57′49.44″ W)
NIXBY, AL | Fix | (Lat. 32°55′34.52″ N, long. 086°07′19.96″ W)
FAYEZ, AL | Fix | (Lat. 33°00′38.93″ N, long. 086°12′34.80″ W)
KYLEE, AL | Fix | (Lat. 33°09′41.04″ N, long. 086°21′57.72″ W)
ADZIN, AL | Fix | (Lat. 33°10′36.99″ N, long. 086°22′56.20″ W)
HANDE, AL | Fix | (Lat. 33°18′44.40″ N, long. 086°31′24.44″ W)
VLKNN, AL | WP | (Lat. 33°40′12.49″ N, long. 086°53′59.42″ W)
NEGEE, AL | Fix | (Lat. 33°48′12.56″ N, long. 087°10′36.89″ W)
CORES, AL | Fix | (Lat. 33°50′07.18″ N, long. 087°14′36.71″ W)
CHOOK, AL | Fix | (Lat. 33°56′04.62″ N, long. 087°27′21.41″ W)
EXIST, AL | Fix | (Lat. 33°59′37.53″ N, long. 087°34′53.35″ W)
FOGUM, AL | Fix | (Lat. 34°06′25.32″ N, long. 087°49′24.16″ W)
SWIKI, AL | WP | (Lat. 34°11′55.87″ N, long. 088°00′42.44″ W)
GANTT, MS | WP | (Lat. 34°26′42.26″ N, long. 088°38′57.39″ W)
ZATEL, MS | Fix | (Lat. 34°27′49.78″ N, long. 088°41′30.76″ W)
ICAVY, MS | Fix | (Lat. 34°29′51.00″ N, long. 088°47′03.66″ W)
GOINS, MS | WP | (Lat. 34°46′12.64″ N, long. 089°29′46.81″ W)
T-258 MINIM, AL to CANER, GA [New]
MINIM, AL | Fix | (Lat. 33°32′31.14″ N, long. 088°02′23.62″ W)
CAYAP, AL | Fix | (Lat. 33°19′27.01″ N, long. 087°39′08.35″ W)
CRMSN, AL | WP | (Lat. 33°15′31.80″ N, long. 087°32′12.70″ W)
ZIVMU, AL | Fix | (Lat. 33°14′58.61″ N, long. 087°23′53.53″ W)
Brookwood, AL (OKW) | VORTAC | (Lat. 33°14′16.31″ N, long. 087°14′59.52″ W)
HEENA, AL | Fix | (Lat. 33°12′24.62″ N, long. 086°52′15.28″ W)
KYLEE, AL | Fix | (Lat. 33°09′41.04″ N, long. 086°21′57.72″ W)
CAMPP, AL | Fix | (Lat. 33°06′10.39″ N, long. 085°44′51.08″ W)
Lagrange, GA (LGC) | VORTAC | (Lat. 33°02′56.83″ N, long. 085°12′22.40″ W)
LANGA, GA | Fix | (Lat. 32°55′34.17″ N, long. 084°56′59.00″ W)
CANER, GA | Fix | (Lat. 32°45′21.48″ N, long. 084°35′51.42″ W)
T-290 HABJE, MS to JACET, GA [Amended]
HABJE, MS | Fix | (Lat. 32°23′32.11″ N, long. 089°05′56.57″ W)
Meridian, MS (MEI) | VORTAC | (Lat. 32°22′42.38″ N, long. 088°48′15.36″ W)
KWANE, MS | WP | (Lat. 32°22′00.47″ N, long. 088°27′29.43″ W)
RABEC, AL | WP | (Lat. 32°16′11.64″ N, long. 086°58′01.67″ W)
Montgomery, AL (MGM) | VORTAC | (Lat. 32°13′20.21″ N, long. 086°19′11.02″ W)
SCAIL, AL | WP | (Lat. 33°02′01.32″ N, long. 085°39′31.56″ W)
BBAIT, GA | WP | (Lat. 33°07′14.23″ N, long. 084°46′13.19″ W)
BBASS, GA | WP | (Lat. 33°11′32.70″ N, long. 083°59′21.10″ W)
BBOAT, GA | WP | (Lat. 33°16′50.57″ N, long. 083°28′10.00″ W)
BOBBR, GA | WP | (Lat. 33°19′57.07″ N, long. 083°08′19.47″ W)
JACET, GA | WP | (Lat. 33°29′41.42″ N, long. 082°06′27.81″ W)
T-292 Semmes, AL (SJI) to JACET, GA [Amended]
Semmes, AL (SJI) | VORTAC | (Lat. 30°43′33.53″ N, long. 088°21′33.46″ W)
BURIN, AL | Fix | (Lat. 30°58′43.51″ N, long. 088°22′47.31″ W)
HAZEY, AL | Fix | (Lat. 31°15′33.23″ N, long. 088°24′09.75″ W)
YARBO, AL | Fix | (Lat. 31°26′30.60″ N, long. 088°25′03.67″ W)
ANTUH, AL | Fix | (Lat. 31°33′10.56″ N, long. 088°25′36.47″ W)
JANES, AL | Fix | (Lat. 31°45′57.15″ N, long. 088°26′06.08″ W)
KWANE, MS | WP | (Lat. 32°22′00.47″ N, long. 088°27′29.43″ W)
EUTAW, AL | Fix | (Lat. 32°49′03.81″ N, long. 087°50′20.52″ W)
MOVIL, AL | Fix | (Lat. 33°01′24.91″ N, long. 087°33′09.96″ W)
Brookwood, AL (OKW) | VORTAC | (Lat. 33°14′16.31″ N, long. 087°14′59.52″ W)
VLKNN, AL | WP | (Lat. 33°40′12.49″ N, long. 086°53′59.42″ W)
HOKES, AL | Fix | (Lat. 33°55′30.08″ N, long. 085°50′33.20″ W)
MAYES, AL | Fix | (Lat. 33°58′20.32″ N, long. 085°49′15.34″ W)
RKMRT, GA | WP | (Lat. 34°03′36.73″ N, long. 085°15′02.63″ W)
POLLL, GA | WP | (Lat. 34°08′57.26″ N, long. 084°46′49.54″ W)
CCATT, GA | WP | (Lat. 34°16′14.97″ N, long. 084°09′05.36″ W)
REELL, GA | WP | (Lat. 34°01′32.51″ N, long. 083°31′44.10″ W)
TRREE, GA | WP | (Lat. 33°47′14.78″ N, long. 082°55′30.22″ W)
JACET, GA | WP | (Lat. 33°29′41.42″ N, long. 082°06′27.81″ W)
T-294 HABJE, MS to GRANT, GA [Amended]
HABJE, MS | Fix | (Lat. 32°23′32.11″ N, long. 089°05′56.57″ W)
Meridian, MS (MEI) | VORTAC | (Lat. 32°22′42.38″ N, long. 088°48′15.36″ W)
NOSRY, MS | Fix | (Lat. 32°29′06.87″ N, long. 088°39′10.26″ W)
BOYDD, AL | Fix | (Lat. 32°41′52.58″ N, long. 088°20′57.71″ W)
ALICE, AL | Fix | (Lat. 32°59′03.95″ N, long. 087°56′12.06″ W)
CRMSN, AL | WP | (Lat. 33°15′31.80″ N, long. 087°32′12.70″ W)
SITES, AL | Fix | (Lat. 33°24′28.11″ N, long. 087°18′27.10″ W)
OAKGO, AL | Fix | (Lat. 33°27′13.10″ N, long. 087°14′11.79″ W)
WUNET, AL | Fix | (Lat. 33°31′40.47″ N, long. 087°07′17.21″ W)
VLKNN, AL | WP | (Lat. 33°40′12.49″ N, long. 086°53′59.42″ W)
TRUST, AL | Fix | (Lat. 33°38′21.99″ N, long. 086°36′58.83″ W)
JOTAV, AL | Fix | (Lat. 33°36′18.25″ N, long. 086°18′24.59″ W)
NOPVE, AL | Fix | (Lat. 33°35′27.30″ N, long. 086°10′51.81″ W)
DEGAA, AL | WP | (Lat. 33°34′30.58″ N, long. 086°02′32.96″ W)
KOCEY, AL | Fix | (Lat. 33°35′20.40″ N, long. 085°41′02.32″ W)
LAYIN, AL | Fix | (Lat. 33°35′38.39″ N, long. 085°32′50.84″ W)
HEFIN, AL | Fix | (Lat. 33°35′54.75″ N, long. 085°25′10.57″ W)
BBAIT, GA | WP | (Lat. 33°07′14.23″ N, long. 084°46′13.19″ W)
JMPPR, GA | WP | (Lat. 32°57′42.02″ N, long. 084°33′18.56″ W)
GRANT, GA | Fix | (Lat. 32°49′44.96″ N, long. 084°22′36.39″ W)

* * * * *

Issued in Washington, DC, on March 6, 2019.
Scott M. Rosenbloom,
Acting Manager, Airspace Policy Group.

[FR Doc. 2019-04535 Filed 3-12-19; 8:45 am]

BILLING CODE 4910-13-P